CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled Employers of National Service Enrollment Form for review and approval in accordance with the Paperwork Reduction Act of 1995, Public Law 104-13, (44 U.S.C. Chapter 35). Copies of this ICR, with applicable supporting documentation, may be obtained by calling the Corporation for National and Community Service, Erin Dahlin, at 202-606-6931 or email to edahlin@cns.gov. Individuals who use a telecommunications device for the deaf (TTY-TDD) may call 1-800-833-3722 between 8:00 a.m. and 8:00 p.m. Eastern Time, Monday through Friday.

DATES: Comments may be submitted, identified by the title of the information collection activity, within January 8, 2016.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on August 20, 2015 at 80 FR 50610. This comment period ended October 19, 2015. No public comments were received from this Notice.

Description: CNCS is soliciting comments concerning its proposed Employers of National Service Enrollment Form. The Employers of National Service program is administered by CNCS (in conjunction with the Peace Corps, the National Peace Corps Association, the Points of Light Foundation and the Aspen Institute), and seeks to connect employers from all sectors with AmeriCorps and Peace Corps alumni. Organizations that are looking to join the initiative will be filling out this form in order to document their participation. Information provided is purely voluntary and will not be used for any grant or funding support.

Type of Review: Renewal.

Agency: Corporation for National and Community Service.

Title: Employers of National Service Enrollment Form.

OMB Number: None.

Agency Number: None.

Affected Public: Any organization seeking to join the Employers of National Service program.

Total Respondents: 300.

Frequency: Ongoing.

Average Time per Response: 15 minutes.

Estimated Total Burden Hours: 75 hours.

Total Burden Cost (capital/startup): None.

Total Burden Cost (operating/maintenance): None.

Dated: December 3, 2015.
Erin Dahlin,
Deputy Chief of Program Operations.

[FR Doc. 2015-31020 Filed 12-8-15; 8:45 am]

BILLING CODE 6050-28-P